DEPARTMENT OF HEALTH AND HUMAN SERVICES

Federal Guidelines for Requesting, Stockpiling, Distributing Potassium Iodide (KI) From the Strategic National Stockpile (SNS); Correction

AGENCY: Office of Public Health Emergency Preparedness (OPHEP), HHS.

SUMMARY: This document corrects the notice that appeared in the Federal Register on August 29, 2005, (70 FR 51065), entitled “Federal Guidelines for Requesting, Stockpiling, Distributing Potassium Iodide (KI) From the Strategic National Stockpile (SNS)'.

We inadvertently omitted the DATES section of the notice to inform the public of how long we will be receiving comments.

We are adding the DATES section to read as follows:

DATES: Submit comments on or before November 1, 2005.

Robert G. Claypool,
Deputy Assistant Secretary, Office of Public, Health Emergency Preparedness.

[FR Doc. 05-17556 Filed 9-1-05; 8:45 am]

BILLING CODE 4150-37-P